POSTAL SERVICE

Customized Postage

AGENCY: Postal Service.

ACTION: Notice of authorization of Expanded Market Test for Customized Postage.

SUMMARY: The Postal Service™ provides notice of its intention to expand testing of the concept of Customized Postage for a period of up to 2 years, commencing no sooner than March 20, 2006.

DATES: This notice is effective March 13, 2006.

FOR FURTHER INFORMATION CONTACT: Daniel J. Lord, manager of Postage Technology Management, at 703-292-3692 or by fax at 703-292-4073.

SUPPLEMENTARY INFORMATION: On April 27, 2005, the Postal Service published its notice of intention to resume testing of the concept of Customized Postage for a period of 1 year in Federal Register, Volume 70, Number 80, Pages 21821-21822. As a result of that notice, three companies were authorized to conduct a 1 year market test of Customized Postage beginning in May 2005. This test, now referred to as Phase II, precluded the use of commercial images in Customized Postage.

As a result of a recent amendment to 18 U.S.C. § 475, the Postal Service is providing notice of its intention to conduct further market tests of the Customized Postage concept to include commercial images. These further market tests will be referred to as Phase III. Therefore, the Postal Service invites interested parties to submit proposed concepts for consideration.

While each concept will be evaluated on its own merits, particular conditions may be required and agreed to by the Postal Service and the provider regarding the testing of that concept. The following conditions will be applied in common to all concepts:

1. The provider must be an authorized PC Postage® provider, authorized postage meter manufacturer or distributor, or a company affiliated with an authorized postage provider under conditions respecting postage revenue security approved by the Postal Service in accordance with 39 CFR 501.1 and subject to all procedures and regulations set forth throughout 39 CFR part 501.

2. The Customized Postage indicia and other printed matter must meet all Postal Service requirements respecting placement on a mailpiece, readability, avoidance of interference with and facilitation of mail processing, and identification of fraudulent indicia, as well as all regulations pertaining to PC Postage products and services.

3. The provider will be responsible for ensuring that all images to appear in the ad plate area meet the requirements of 39 CFR 501.6(g) and 501.23(d); are not obscene, deceptive, or defamatory of any person, entity, or group; do not advocate unlawful action; do not emulate any form of valid postage, government, or other official indicia, or payment of postage; and do not harm the public image, reputation, or good will of the Postal Service. The provider will also have full responsibility for ensuring that a customer acknowledges, agrees, and warrants in writing that it bears full responsibility and liability for obtaining authorization to reproduce and otherwise use an image as proposed, and that it, in fact, has the legal authority to reproduce and otherwise use the image as proposed. It is the Postal Service's declared intent not to allow its Customized Postage program to become a public forum for dissemination, debate, or discussion of public issues.

4. The test will be limited to full-rate single piece First-Class Mail® service, Priority Mail® service, and Express Mail® service.

5. The provider must agree that it has obtained all intellectual property licenses (from customers or elsewhere) necessary to provide the approved service and that it will indemnify the Postal Service for any costs and damages it may incur as a result of its failure to honor this representation.

6. The provider must acknowledge that it understands (and agrees) that the Postal Service has not invoked or exercised 28 U.S.C. 1498 with respect to any aspect of the Customized Postage product or services.

7. The provider must design its Customized Postage indicia in a manner that avoids the likelihood that the public will be misled into believing that the product image originated with the Postal Service.

8. The Postal Service may suspend or cancel without prior notice and without liability for any costs incurred or losses sustained by a provider or customer, the approval of any customer as a test participant, or the Customized Postage test itself, in the event there is sufficient cause to believe that the test presents unacceptable risk to Postal Service revenues, degradation of the ability of the Postal Service to process or deliver mail produced by test participants, an assessment that continuation of the test may expose the Postal Service or its customers to legal liability, or an assessment that continuation of the test will cause public or political embarrassment or harm to the Postal Service in any way.

9. The Postal Service will require approved providers of Customized Postage to pay an annual fee to participate in the test.

10. Additional conditions and requirements may be set forth in individual product test approval letters.

Persons interested in obtaining Postal Service authorization to participate in the Phase III Customized Postage market test should contact: Manager, Postage Technology Management, U.S. Postal Service, 1735 North Lynn Street, Room 5011, Arlington, VA 22209-6030; (703) 292-3592 (Telephone); (703) 292-4073 (Fax).

Neva Watson,
Attorney, Legislative.

[FR Doc. 06-2397 Filed 3-10-06; 8:45 am]

BILLING CODE 7710-12-P